DEPARTMENT OF JUSTICE

Bureau of Alcohol, Tobacco, Firearms and Explosives

[OMB Number 1140-0050]

Agency Information Collection Activities; Proposed eCollection eComments Requested; Identification Markings Placed on Firearms

AGENCY: Bureau of Alcohol, Tobacco, Firearms and Explosives, Department of Justice.

ACTION: 30-day notice.

SUMMARY: The Department of Justice (DOJ), Bureau of Alcohol, Tobacco, Firearms and Explosives (ATF), will submit the following information collection request to the Office of Management and Budget (OMB) for review and approval in accordance with the Paperwork Reduction Act of 1995. The proposed information collection OMB 1140-0050 (Identification Markings Placed on Firearms) is being revised due to a change in burden, since there is an increase in the number of respondents, although there is a reduction in responses and total burden hours from the previous renewal in 2015, due to less firearms being imported. The proposed information collection was previously published in the Federal Register on May 2, 2018, allowing for a 60-day comment period.

DATES: Comments are encouraged and will be accepted for an additional 30 days until August 6, 2018.

FOR FURTHER INFORMATION CONTACT: If you have additional comments, particularly with respect to the estimated public burden or associated response time, have suggestions, need a copy of the proposed information collection instrument with instructions, or desire any other additional information, please contact Rinell Lawrence, Firearms Industry Programs Branch (FIPB) either by mail at 99 New York Avenue NE, Washington, DC 20226, by email at fipb-informationcollection@atf.gov, or by telephone at 202-648-7190. Written comments and/or suggestions can also be directed to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of this information collection:

(1) Type of Information Collection: Revision of a currently approved collection.

(2) The Title of the Form/Collection: Identification Markings Placed on Firearms.

(3) The agency form number, if any, and the applicable component of the Department sponsoring the collection:

Form number: None.

Component: Bureau of Alcohol, Tobacco, Firearms and Explosives, U.S. Department of Justice.

(4) Affected public who will be asked or required to respond, as well as a brief abstract:

Primary: Business or other for-profit.

Other: None.

Abstract: Each licensed firearms manufacturer or licensed firearm importer must legibly identify each firearm by engraving, casting, stamping (impressing), or otherwise conspicuously placing on the frame or receiver an individual serial number; which will be used to facilitate investigations about the criminal use of firearms.

(5) An estimate of the total number of respondents and the amount of time estimated for an average respondent to respond: An estimated 13,868 respondents will utilize this information collection, and it will take each respondent approximately 1 minute to complete each response.

(6) An estimate of the total public burden (in hours) associated with the collection: The estimated annual public burden associated with this collection is 85,630 hours which is equal to 13,868 (# of respondents) * 370.4767089702913 (# of responses per respondents) * 0.0166667 hours (1 minute).

(7) An Explanation of the Change in Estimates: Although there is an increase in the number of respondents to this collection by 2,654, the total responses, and burden hours have reduced by 401,768, and 6,696 respectively, due to a general reduction of imported firearms. Consequently, the public burden cost for this information collection was also reduced by $369,627.

If additional information is required contact: Melody Braswell, Department Clearance Officer, United States Department of Justice, Justice Management Division, Policy and Planning Staff, Two Constitution Square, 145 N Street NE, 3E.405A, Washington, DC 20530.

Dated: June 29, 2018.
Melody Braswell,
Department Clearance Officer for PRA, U.S. Department of Justice.

[FR Doc. 2018-14413 Filed 7-3-18; 8:45 am]

BILLING CODE 4410-14-P